DEPARTMENT OF HOMELAND SECURITY

U.S. Customs and Border Protection

Relocation of Regulations and Rulings, Office of International Trade

AGENCY: U.S. Customs and Border Protection, Department of Homeland Security.

ACTION: Notice of change in office location.

SUMMARY: Regulations and Rulings, in the Office of International Trade, of the U.S. Customs and Border Protection (CBP) is relocating its office from the U.S. Mint Annex Building at 799 9th Street NW., Washington, DC to 90 K Street NE., Washington, DC 20229-1177. All correspondence directed to the Regulations and Rulings, Office of International Trade, including mailed comments regarding section 1625 modifications or revocations, should be sent to the new address. The main office phone number remains the same.

DATES: Effective Date: February 6, 2013.

FOR FURTHER INFORMATION CONTACT: Joseph W. Clark, Trade and Commercial Regulations Branch, Regulations and Rulings, Office of International Trade, (202) 325-0118.

SUPPLEMENTARY INFORMATION:

Background

Regulations and Rulings, Office of International Trade, U.S. Customs and Border Protection (CBP) is relocating its office from the U.S. Mint Annex Building at 799 9th Street NW., Washington, DC to 90 K Street NE., Washington, DC 20229-1177. All correspondence, including ruling requests and mailed comments regarding 19 U.S.C. 1625 modifications or revocations (see 19 CFR 177.12), should be directed to the new address, as follows: Regulations and Rulings, Office of International Trade, U.S. Customs and Border Protection, 90 K St. NE., (10th Floor), Washington, DC 20229-1177.

After February 4, 2013, anyone wishing to view the mailed comments that were submitted to Regulations and Rulings in response to a 1625 modification or revocation (19 CFR 177.12) published in the Federal Register should come to the new office location specified in the preceding paragraph. It is highly recommended that a person first call Mr. Joseph Clark at (202) 325-0118 to schedule an appointment in advance to view the comments. Please note that all office phone numbers remain the same. The main office phone number is 202-325-0100.

Dated: January 31, 2013.
Sandra L. Bell,
Executive Director, Regulations and Rulings, Office of International Trade.

[FR Doc. 2013-02546 Filed 2-5-13; 8:45 am]

BILLING CODE 9111-14-P